DEPARTMENT OF AGRICULTURE

Forest Service

Plan Revisions for the Inyo, Sequoia and Sierra National Forests; California and Nevada

AGENCY: Forest Service, USDA.

ACTION: Notice of intent to prepare an environmental impact statement.

SUMMARY: As directed by the National Forest Management Act, the USDA Forest Service is preparing the revised land management plans (forest plans) for the Inyo Sequoia and Sierra National Forests. The agency will prepare a joint environmental impact statement (EIS) for these three revised plans. The revised forest plans will supersede existing forest plans previously approved by the responsible official on the Inyo National Forest in 1988, the Sequoia National Forest in 1988 and the Sierra National Forest in 1992. The existing forest plans have been amended several times since their approval, including the 2004 Sierra Nevada Forest Plan Amendment. The Giant Sequoia National Monument (Monument) Management Plan, which amends the land management plan for the Sequoia National Forest, will be incorporated as a subset of the Sequoia's revised forest plan. Provisions of the 1990 Mediated Settlement Agreement to the Sequoia National Forest Land Management Plan, applicable to National Forest System lands outside of the Monument, will be addressed in the EIS for forest plan revision. The existing forest plans, as amended, remain in effect until the revised forest plans are approved. The plans will be revised under the 2012 Planning Rule and will provide for social, economic and ecological sustainability within Forest Service authority and the inherent capability of the plan area.

DATES: Comments concerning the proposed action in this notice will be most useful in the development of the draft revised forest plans and EIS if received by September 29, 2014. The draft EIS is expected in spring 2015. The final EIS is expected in spring 2016.

ADDRESSES: Please provide comments using the following Web site: http://tinyurl.com/r5earlyadopters. We will also accept comments mailed to Maria Ulloa, Forest Plan Revision, 1839 So. Newcomb Street, Porterville, CA 93257 or emailed to r5planrevision@fs.fed.us. When providing comments, clearly indicate which forest or forests your comments apply to.

FOR FURTHER INFORMATION CONTACT: Mike Dietl, Plan Revision Team Leader, michaeldietl@fs.fed.us, 707-562-9121. Information on plan revision is also available at http://tinyurl.com/r5earlyadopters. Individuals who use telecommunication devices for the deaf (TDD) may call the Federal Information Relay Service (FIRS) at 1-800-877-8339 between 8 a.m. and 8 p.m. Eastern Time, Monday through Friday.

SUPPLEMENTARY INFORMATION:

Lead and Cooperating Agencies

The USDA Forest Service is the lead agency. Inyo County is a designated cooperating agency in this plan revision effort.

Responsible Officials

The Forest Supervisor is the responsible official for plan revision on each forest.

Ed Armenta, Forest Supervisor, Inyo National Forest Service, 351 Pacu Lane, Suite 200, Bishop, CA 93514.

Kevin Elliott, Forest Supervisor, Sequoia National Forest, 1839 South Newcomb Street, Porterville, CA 93257.

Dean Gould, Forest Supervisor, Sierra National Forest Service, 1600 Tollhouse Road, Clovis, CA 93611.

Purpose and Need for Action

The purpose is to revise the forest plans for the Inyo, Sequoia and Sierra National Forests as guided by the 2012 Planning Rule (36 CFR part 219). According to the National Forest Management Act, forest plans are to be revised on a 10 to 15 year cycle. Current plans for the Inyo, Sequoia and Sierra National Forests were approved between 1988 and 1992 and are due for revisions. Responsible officials used science-based assessments and considered public and employee input to identify needed changes to existing plans. They have identified the following areas where changes are needed:

Benefits to People and Communities

There is a need to update plan direction to: Support the long term sustainability of forest benefits to people and contributions to local economies, which come as a result of the many uses of National Forest System lands; to encourage the use of partnerships with private and public entities and tribal stewardship opportunities; and to improve communication and outreach to the public, including underrepresented populations.

There is a need to update plan direction to move toward resilience of forests to climate change and fire, ensuring that they provide benefits to people.

There is a need to modify plan components to maintain levels of forest product and biomass production that support an economically-viable forest products industry, and to encourage local hiring.

Tribal Relations and Uses

There is a need to include plan direction regarding tribal relations and uses to: Help tribes maintain their culture and connection to the land; support economic opportunities in tribal communities; incorporate traditional ecological knowledge; and collaborate with the agency to meet restoration goals.

Sustainable Recreation

There is a need to update plan direction to improve recreation facilities, settings, opportunities and access and their sustainability; and to improve and protect scenic character, which contributes to people's recreation experience and sense of place.

There is a need to proactively manage cultural resources to protect and improve the conditions of these resources and help connect people to the land.

Fire

There is a need to add plan direction to improve fire management to recognize climate change.

There is a need to modify wildfire management areas and associated plan direction to increase the area where fuel reduction treatments occur, while also increasing the opportunity to use fire as a restoration tool, and to modify plan direction to maintain or restore fire as an ecosystem process, especially in riparian areas.

There is a need to include plan direction that incorporates analyzing smoke tradeoffs to communities from prescribed fire or wildfire used to meet resource objectives and large, uncontrolled wildfire.

Ecological Integrity

There is a need to add plan direction to improve resilience of ecosystems to climate change.

There is a need to modify plan direction to: Increase the rate and extent of the land area where vegetation is being restored, decreasing the threat of large, undesirable fires; to sustain and increase local capacity to restore vegetation and reduce fuels; to add and modify plan direction specific to ecological integrity of eastside ecosystems that occur on the Inyo National Forest and small portions of the Sequoia National Forest; and to include plan direction for old forest, early seral habitat and subalpine and alpine systems.

There is a need to modify plan direction for terrestrial ecosystems and fire, as described above, to increase the ability of forests to store and sequester carbon.

There is a need to modify plan direction for aquatic and riparian ecosystems to maintain or improve the resilience of these ecosystems to climate change, fire, air pollution and invasive species, and to manage meadows holistically across individual resource areas, such as hydrology, soils, wildlife and vegetation.

There is a need to identify in the plans watersheds that are a priority for restoration, and to modify plan direction to improve groundwater storage and to address water shortages and climate change in riparian systems.

There is a need to modify plan direction to improve ecological conditions for the California spotted owl and to restore and maintain greater sage-grouse habitat on the Inyo National Forest. There is a need to incorporate new information and conservation practices into plan direction to contribute to the recovery of federally-listed species (including candidates and proposed) and to streamline project planning.

There is a need to modify plan direction to prevent the establishment and spread of invasive species.

Lands

There is a need to incorporate lands acquired by the Inyo National Forest through the Nevada Enhancement Act into the forest plan.

Designated Areas

There is a need to: Review existing plan direction for existing and recommended wilderness to determine if any updates are needed; to review existing plan direction for wild and scenic rivers to determine if any updates are needed; to include a management area for the Pacific Crest National Scenic Trail corridor and associated management direction; and to include management direction for national recreation trails.

Proposed Action

The proposed action is to revise the existing forest plans for the Inyo, Sequoia and Sierra National Forests, as amended. Plan revision creates a new plan for the entire plan area, whether the revised plan differs to a small or large extent from the prior forest plan. In this plan revision effort, plans will be revised to meet the requirements of the 2012 Planning Rule and to address the needed changes identified above. A detailed document that complements the following proposed action is available at http://tinyurl.com/r5earlyadopters. Proposed changes include the following:

General

Existing direction that is carried forward into revised plans would be converted to 2012 Planning Rule language. This would result in some existing standards and guidelines being changed to other plan components. Plan components that are no longer needed because compliance is already required as a matter of law, regulation, or policy, or that conflict with current national policy would be removed. Plan components that no longer apply, set tasks that have been completed, or refer to timeframes that are now past would be removed.

Changes would be made to some standards and guidelines from the 2004 Sierra Nevada Forest Plan Amendment (SNFPA). These standards and guidelines are referenced using SNFPA and the standard and guideline number (e.g., SNFPA 4). Specific changes are discussed in the appropriate sections below.

Current land allocations, management areas and management prescriptions would generally stay the same except as described in the sections below. Under the 2012 Planning Rule, management and/or geographic areas will replace what was previously known as land allocations, management areas and management prescriptions.

The Forest Service Pacific Southwest Region and Pacific Southwest Research Station have reviewed and incorporated the latest climate change research and modeling from the Intergovernmental Panel on Climate Change and the U.S. Climate Change Science Program to deduce likely present and future impacts to the forests of the Sierra Nevada. Their results show a general increase in temperatures, resulting in longer fire seasons and less snowpack, which melts earlier in the year. Where appropriate, plan components would be adjusted to recognize considerations of climate change.

Benefits to People and Communities

Desired conditions, guidelines and other plan content would be included to support the long term sustainability of forest benefits to people and forest contributions to local and tribal economies, including multiple uses. This direction includes resilience and sustainability to climate change of ecosystems that provide benefits and multiple uses to people.

A section would be added to the plan that provides management direction for interpretation and education. This does not exist in the current forest plans. Desired conditions, guidelines and other plan content would be included for communicating and outreaching to residents and visitors.

Partnerships with private, public and tribal entities would be encouraged in the plan and associated plan components would be developed.

Timber

Desired conditions would be added to ensure that predictable forest product yields support economic stability sufficient to maintain local industry infrastructure for use in vegetation restoration, and that forest products are produced in a sustainable manner, improving forest conditions and contributing to local community stability. Standards and guidelines would be added that address reforestation and the range of purposes for which timber harvest may occur, such as timber production, salvage and ecological restoration. Other plan content would be added that encourages the use of local forest products workforces and the use of tools such as stewardship contracts to improve the economic feasibility of vegetation management projects across large landscapes and social, economic and ecological sustainability.

Tribal Relations and Uses

A section would be added to the plan that provides management direction for tribal relations and uses. This does not currently exist in the forest plans. Desired conditions and other plan content would be included that incorporate traditional tribal ecological knowledge, cultural viewpoints and considerations in forest management; that emphasize working with tribes to develop and implement projects, through stewardship contracting and other mechanisms; and that recognize the value of incorporating traditional ecological knowledge into project development and implementation. Desired conditions and other plan content would be integrated throughout other parts of the plan to incorporate tribal considerations in resource management. Direction would be added to require communication and collaboration with tribal leadership during fire incident management.

Consideration would be given to defining and designating cultural management areas for sacred sites, areas of cultural and religious sensitivity, traditional cultural properties and significant concentrations of cultural properties.

Sustainable Recreation

The plan would be updated to reflect the guiding principles, goals and focus areas from the Forest Service National Framework for Sustainable Recreation. This includes updating or developing plan components to guide forest management in a way that sustainably:

• Connects people with their natural and cultural heritage;

• Promotes social and economic community well-being using a place-based model for recreation planning;

• Emphasizes working with partners and volunteers to help meet public needs and expectations, including the needs of youth and underserved communities;

• Provides a diverse range of quality natural and cultural recreation opportunities and settings;

• Restores and protects the natural, cultural and scenic environment, focusing on special places that are highly valued landscapes or sites;

• Promotes citizen stewardship through interpretive services and conservation education; and

• Emphasizes effective and adaptive communication in an ever-changing world.

Recreation Opportunity Spectrum (ROS) classes would be modified, as appropriate, to represent sustainable recreation settings that reflect current management or recreation activities and conditions and future use.

The Visual Management System (VMS) used in the existing forest plan would be converted to the Scenery Management System (SMS) resulting in scenic integrity objectives. The SMS supports a place-based planning approach that recognizes the value of both natural and cultural features in the landscape.

Desired conditions and other plan content for working with partners would be incorporated to demonstrate that they are integral to program of work planning and conducting sustainable recreation activities.

Plan components would be developed to focus agency efforts on each forest's distinctive recreation roles and contributions.

Cultural Resources

Desired conditions, guidelines and other plan content would be added or updated that emphasize the role that the forest plays in connecting people to their cultural heritage, offering cultural resource-based recreation and tourism opportunities and sustaining treasured places.

Desired conditions, guidelines and other plan content would be added or updated that emphasize the importance of strategic partnerships to protect the sustainability of cultural resources and promote citizen stewardship.

Consideration would be given to defining and designating cultural management areas for sacred sites, areas of cultural and religious sensitivity, traditional cultural properties and significant concentrations of cultural properties.

Fire

The current management areas for wildland urban interface (WUI) defense and threat zones from the SNFPA would be changed to a risk-based protection zone approach, which would focus fuel reduction treatments on conditions that threaten communities and assets. These protection zones would be complemented by two new zones that cover the remaining adjacent National Forest System lands, where increased opportunities for managing wildfires for ecological benefits would occur. The use of fire as a restoration tool would be emphasized in inaccessible and steeper areas where mechanical fuel and restoration treatment would be difficult or is prohibited. Proposed modification of some vegetation and wildlife standards and guidelines aligned with these zones are intended to better manage the threat of wildfire impacts to communities and other at-risk natural resource values. As a risk-based approach, these zones change over time as fuels conditions change from restoration treatments and wildfires and as there are new or changed communities, assets, or natural resource values.

The four proposed zones are:

1. Community Wildfire Protection Zone: Conditions currently put communities and community assets at very high risk. This would replace the WUI defense zone. Emphasis would be placed on mechanical and hand treatments to yield desired fire behavior conducive to more effective fire suppression. Prescribed burning is also used, especially to maintain previously treated areas. The use of wildfire to increase ecosystem resilience and provide ecological benefits is very limited.

2. General Wildfire Protection Zone: Conditions currently put communities, community assets and natural resource values at high risk of loss from wildfire. This would replace the WUI threat zone, but recognizes that fires from greater distances can threaten these areas, in part a result of climate change. This zone adds natural resource values, and the area is increased. Emphasis would be placed on mechanical and hand treatments to yield desired fire behavior conducive to more effective fire suppression and retention of desired conditions for natural resources. The use of wildfire to increase ecosystem resilience and provide ecological benefits is limited.

3. Wildfire Restoration Zone: Conditions currently put communities, community assets, watersheds and natural resource values at moderate risk of loss from wildfire. Wildfire could be used to increase ecosystem resilience and provide ecological benefits when conditions allow. Strategically located mechanical treatments and/or prescribed burning, where feasible, may be a necessary precursor to the reintroduction of wildfire to achieve desired conditions. Strategically located treatments increase the opportunity to manage wildfires to achieve desired conditions.

4. Wildfire Maintenance Zone: Conditions currently put communities, community assets, watersheds and natural resource values at low risk of loss from wildfire, and many natural resources would benefit from wildland fire. Due to low risk, wildfires are expected to be used as often as possible to maintain ecosystem resilience and provide ecological benefits when conditions allow. Mechanical treatments and/or prescribed burning, where feasible, are used to complement wildfire to achieve desired conditions.

Desired conditions and SNFPA 1-11 would be modified to incorporate the four zone approach. In the Protection Zones, plan components would be geared toward safe firefighting and protecting assets (e.g., structures and powerlines) and natural resources. In the Restoration and Maintenance Zones, plan components would emphasize effects of fire on natural resources and would be geared toward desired conditions for ecological resilience and integrity. New plan components would emphasize fire behavior and the effects on resources (e.g., habitat or timber) in terms of severity (e.g., the number of trees killed).

Air Quality

Desired conditions, guidelines, standards and other plan content would be added to allow for improved coordination with air quality regulators and with communities and to provide for a transparent analysis and clear communication regarding smoke tradeoffs from prescribed fire or wildfire used to meet resource objectives and large, uncontrolled wildfire. Other plan content would be added to consider smoke impacts to downwind communities.

Terrestrial Ecosystems

Within the Community and General Wildfire Protection Zones, to reflect the intent of the new planning rule, some standards and guidelines from the SNFPA would be converted to or replaced with desired conditions and other plan content.

Current general desired conditions would be replaced with specific, quantitative desired conditions based on ecological sustainability. Prescriptive elements on vegetation management (SNFPA 1-12 and 17-19) would be replaced with desired conditions and other plan content aimed at restoring ecological integrity and sustainability. Desired conditions would incorporate references to new science (e.g., General Technical Report 220 and 237) that better reflect resilience to fire, drought and climate change and heterogeneity beneficial to wildlife. Vegetation desired conditions would be made more specific by describing ecological outcomes as a numerical range. The importance of fire as an ecological process in vegetation types adapted to fire (e.g., mixed conifer and Jeffrey pine) would be included.

A strategy would be added that emphasizes planning and implementing projects at the landscape scale (5,000 to 100,000 acres) to increase the effectiveness and efficiency of restoring ecological resilience to fire, drought and climate change. Locations and types of restoration treatments (e.g. thinning or controlled burning) would occur within these larger areas to influence changes in effects of wildfires.

Plan components and other plan content would be added or updated for all major eastside vegetation types on the Inyo National Forest, and small portions of the Sequoia National Forest, including sagebrush, pinyon-juniper, desert shrub, and eastside oak.

Desired conditions and other plan content would be added that recognize the importance of perennial grasses in eastside ecosystems and the role they play in resilience to non-native grass invasion and resilience to fire.

The existing old forest emphasis area land allocation and desired conditions from the SNFPA would be removed because the desired conditions are general and lack specific information on desired levels of large and old trees. Forest-wide desired conditions for old forest would be added that describe desired large tree densities and the proportion of the landscape containing old forest characteristics.

Desired conditions would be added to recognize complex early seral habitat as an important component to ecological sustainability, describing the desired proportions on the landscape, large snag and log densities and shrub cover amounts. Desired conditions would be added that integrate all ecological components of complex early seral habitat. Plan content would be added that addresses landscape consideration of the distribution and proportion of complex early seral habitats, including connectivity. A standard that addresses retention of some areas post fire with minimal resource management intervention would be added.

Desired conditions and other plan content would be added to address ecological sustainability of subalpine and alpine ecosystems omitted in earlier plans. This includes components to address threats to high elevation white pines from blister rust and bark beetle.

Desired conditions would be added for blue oak woodlands to support existing standards and guidelines from the SNFPA.

Aquatic and Riparian Ecosystems

Plan components would be added and modified to better restore, maintain and increase the resilience of aquatic and riparian ecosystems to climate change, fire, ozone and nitrogen depositions.

The term riparian conservation objective (RCO) would be dropped to avoid confusion with the 2012 Planning Rule plan component called objectives. The spirit and intent of the original RCOs would remain in other plan components. The standards and guidelines organized under RCOs would be mostly retained and reorganized. More specifically, SNFPA 91 would be modified to include the definition of riparian conservation areas, and by removing the need for a specific RCO analysis. SNFPA 92 and 93 would be removed, because they concern the RCO system and their intent is captured elsewhere in plan components and existing law.

SNFPA 109 and 111 would be replaced with other plan content to improve resilience of riparian ecosystems to fire, drought and climate change. This change would allow for increased flexibility with prescribed fire and mechanical treatment and/or hand treatments in riparian conservation areas and critical aquatic refuges where appropriate. Although the new language would emphasize more flexibility to treat in riparian areas, activities would need to be designed considering desired conditions, ensure the protection of at-risk species, and meet all necessary protection measures for water and soil.

Desired conditions would be updated for meadows to reflect an integration of vegetation, soils, hydrology and wildlife conditions. Guidelines would be added to address the ecological integrity of meadows and their connection to groundwater. Guidelines currently in place for the Inyo National Forest have replaced SNFPA 120 and 121 to further allow for an integrated ecological approach to meadow management on that forest.

New guidelines would be included to protect the spring environment and to maintain and restore native species and the ecological integrity of these systems.

Water Resources

The contribution of the national forests to water quantity and quality in California would be recognized in the plans. Plan components would be added to address the effect of climate change and drought on water quantity.

Management direction would be added to ensure compliance with new proposed groundwater directives and to further address water shortages and climate change in riparian systems.

SNFPA 106 would be modified to include language that better evaluates diversion of water on National Forest System land, including Federal Energy Regulatory Commission relicensing projects. The new language would promote collaboration with other entities involved in the hydropower relicensing process and other water use negotiations. These changes address public feedback and the need to account for climate change and threats to water quality. The changes would also address trends with drought.

The Watershed Condition Framework would continue to move forward. Priority watersheds have been identified and these would continue to be a focus for improving water quality, watersheds and aquatic and riparian ecosystem conditions.

At-Risk Species

SNFPA 53, 54, 98 and 114 which are specifically related to the three newly listed federal threatened and endangered amphibian species (Yosemite toad, Sierra Nevada yellow-legged frog and the northern distinct population segment of the mountain yellow-legged frog) would be retained but would incorporate clarifications resulting from consultation with the U.S. Fish and Wildlife Service.

Actions listed in recovery plans and conservation strategies would be considered in developing plan components that could contribute to the recovery of federally-listed species.

Existing management areas and direction for California spotted owl and northern goshawk protected activity centers and spotted owl home range core areas would be retained with clarifications and alignment of plan components. No substantive changes would be made with the following exceptions:

• Updating and clarifying the desired conditions and other plan components for these areas based on information from the California spotted owl new interim guidelines and conservation assessment, when they are available.

• Changing some standards and guidelines within the Community Wildfire Protection Zone and the General Wildfire Protection Zone to better balance the need to provide key habitat with managing the threat of wildfire impacts to communities and other values at risk. This would include minor changes to SNFPA 73 and converting and clarifying direction related to limited operating periods in SNFPA 75, 76 and 77 to guidelines.

• Adding plan content and updating and clarifying standards and guidelines to include opportunities for adaptive management related to the amount of protected activity centers that can be treated mechanically (SNFPA 80 and 81) and with prescribed burning (SNFPA 78 and 79).

Direction for the Southern Sierra Fisher Conservation Area (SNFPA 90) and fisher den sites (SNFPA 85-87) would be retained with clarifications and alignment of plan components. No substantive changes would be made, pending completion of the Southern Sierra Fisher Conservation Strategy. These management areas and associated direction would be updated or changed considering information from the conservation strategy. Other plan components in other resource areas would be aligned as needed.

Direction for Bi-State sage-grouse management from the Inyo National Forest Sage-Grouse Interim Management Policy, portions of the Humboldt Toiyabe National Forest Sage-Grouse Plan Amendment and strategies from the Rocky Mountain Research Station-led conservation strategy on habitat restoration and fire resilience would be added. Plan components and other plan content would be added to conserve sage-grouse habitat.

A list of preliminary at-risk species was identified in each forest's assessment report. During the analysis of alternatives, plan components related to ecosystem integrity and ecosystem diversity will be examined to determine if direction for ecological integrity and ecosystem diversity or for special habitats is sufficient or if additional, species-specific plan components are needed for federally-recognized threatened, endangered, proposed or candidate species or for species of conservation concern.

Invasive Species

The existing standards and guidelines specific to noxious weed management (SNFPA 36-49) would be clarified and reorganized into desired conditions, guidelines and other plan content that address terrestrial and aquatic invasive species, including noxious plants.

Lands

Plan components with management direction for lands acquired by the Inyo National Forest through the Nevada Enhancement Act would be added.

Designated Areas

Wilderness: The 15,110 acres of the Moses Recommended Wilderness on the Sequoia National Forest, recommended in the Giant Sequoia National Monument Plan, would continue to be managed as recommended wilderness until such time as Congress designates it as an addition to the National Wilderness Preservation System. There may be new recommendations that result from the wilderness evaluations currently underway.

Wild and Scenic Rivers: The 66 miles of the San Joaquin, South Fork San Joaquin, North Fork San Joaquin and Middle Fork San Joaquin River segments that the Sierra National Forest found suitable in previous planning efforts would continue to be managed as suitable and recommended wild and scenic river segments until such time as Congress designates them as additions to the National Wild and Scenic Rivers System. One mile of the south Fork Kern River segment that the Sequoia National Forest found suitable in previous planning efforts will continue to be managed as a suitable and recommended wild and scenic river until such time as Congress designates it as an addition to the National Wild and Scenic Rivers System. There may be new recommendations that result from the wild and scenic river evaluations currently underway. For the two newly designated wild and scenic rivers on the Inyo National Forest, the revised forest plan would include direction that is applicable to all wild and scenic rivers on the forest and would identify the process and timeline for finishing comprehensive river management plans and developing a final boundary.

Pacific Crest National Scenic Trail (PCT): The PCT corridor would be identified as a management area and plan components would be added to protect the recreation experience and scenery resources along the PCT. Identification of the PCT corridor and associated direction does not currently exist in forest plans.

National Recreation Trails: Desired conditions, standards, guidelines and other plan content would be added to protect the recreation experience and scenery resources along the national recreation trails on each forest. There are three national recreation trails on the Inyo National Forest, two on the Sequoia National Forest outside the Giant Sequoia National Monument and five on the Sierra National Forest. This direction does not currently exist in forest plans.

Other Designated Areas: Other designated areas would continue to be managed for their designations under current management direction. No new designation areas are being recommended at this time.

Plan Monitoring Program

A monitoring program will be developed that meets the requirements of the 2012 Planning Rule and informs evaluation the effectiveness of forest plans. The monitoring program consists of monitoring questions and associated indicators that address the following eight items: (1) The status of select watershed conditions; (2) the status of select ecological conditions, including key characteristics, of terrestrial and aquatic ecosystems; (3) the status of focal species, selected to assess integrity of ecological systems and effects of management on ecological conditions; (4) the status of a select set of ecological conditions that contribute to the recovery of federally-listed threatened and endangered species, conserve proposed and candidate species and maintain a viable population of species of conservation concern; (5) the status of visitor use, visitor satisfaction and progress toward meeting recreation objectives; (6) measurable changes on the plan area related to climate change and other stressors that may be affecting the plan area; (7) progress toward meeting the desired conditions and objectives in the plan; and (8) the effects of each timber management system to determine that they do not substantially and permanently impair the productivity of the land. Additionally, the monitoring program may include other monitoring questions and indicators that do not address these eight items but which inform effectiveness of the plan. Monitoring programs will be designed within the financial and technical capabilities of the forests. Capability will be expanded by coordinating with partners and through the broader regional strategy currently under development.

Other Requirements and Plan Content

As part of plan revision, the Inyo, Sequoia and Sierra National Forests will also:

• Identify the suitability of areas for the appropriate integration of resource management and uses, including identifying lands not suitable for timber production;

• Identify the maximum quantity of timber that may be removed from the plan area;

• Coordinate with the Regional Forester to identify the species of conservation concern for the plan area;

• Describe the plan area's distinctive roles and contributions within the broader landscape;

• Contain information reflecting proposed and possible actions that may occur on the plan area during the life of the plan;

• Consider including optional content, such as potential management approaches or strategies and partnership opportunities or coordination activities.

Nature of Decision To Be Made

The Inyo, Sequoia and Sierra National Forests are preparing an EIS to revise their current forest plans. The EIS process will inform each Forest Supervisor's decision about which alternative best meets the need for quality land management under the 2012 Planning Rule and the sustainable multiple-use management concept, as required by the National Forest Management Act and the Multiple-Use Sustained-Yield Act. This concept seeks to meet the diverse needs of people while protecting forest resources.

Each Forest Supervisor will be signing a Record of Decision. Having one EIS is expected to help the agency gain efficiencies and complete plan revision within a reasonable timeframe and budget. The three forests share some landscapes, issues and stakeholders. Consolidating under one EIS will help streamline the process for some stakeholders and helps facilitate a landscape-level approach to plan revision.

The revised forest plans will describe the strategic intent of managing the Inyo, Sequoia and Sierra National Forests for the next 10 to 15 years. The revised forest plans will identify management and/or geographic areas and use five plan components to guide future project and activity decision making: Desired conditions, objectives, standards, guidelines and suitability of lands. Each revised plan will include other required content, such as a monitoring program. Responsible officials will determine whether to make new recommendations for wilderness and other designated areas.

This decision will not authorize project-level activities on the three forests. The authorization of project-level activities on each forest occurs through subsequent project-specific decision making. The designation of routes, trails and areas for motorized vehicle travel is not considered during plan revision but addressed in separate analysis processes on each forest. Certain issues (e.g., hunting regulations), although important, are beyond the authority or control of the three forests and will not be considered. In addition, some decisions and determinations, such as wild and scenic river suitability determinations, may not be undertaken at this time but will be addressed in separate processes.

Public Involvement

The Inyo, Sequoia and Sierra National Forest plan revision team has provided multiple ways for the public, other agencies and tribes to contribute ideas about how current forest plans need to change or be improved. Public involvement began in earnest in 2012. Formal and informal meetings, letters, emails, phone calls, newspaper announcements and postings to the Pacific Southwest Region and forest Web sites were used to share and gather information and encourage participation. Plan revision team members gave presentations, went to the field and met with individuals and groups. Information collected from the public was used to identify needed changes in the current forest plans and desired conditions.

The forests will continue regular and meaningful consultation and collaboration with tribal nations on a government-to-government basis to address issues that significantly or uniquely affect their communities.

The forests will continue to collaborate with interested members of the public, as well as federal and state agencies, local governments and other organizations.

Applicable Planning Rule

Preparation of the revised forest plans for the Inyo, Sequoia and Sierra National Forests began with the publication of the Notice of Initiation in the Federal Register on December 26, 2013 [78 FR 78326] and was initiated under the planning procedures contained in the 2012 Planning Rule (36 CFR 219 (2012)).

Scoping Process

This notice of intent initiates the 30-day scoping process which guides the development of the EIS. The purpose of this process is to determine the scope of issues to be addressed and to identify the significant issues related to the proposed action. Public meetings and tribal forums to gather input on the proposed action will be held in September 2014. Additional materials, as well as the dates, times and locations of these meetings can be found at http://tinyurl.com/r5earlyadopters. It is important that reviewers provide their comments in a time and manner useful to the agency's preparation of the EIS. Therefore, comments should be provided prior to the close of the scoping period and should clearly articulate the reviewer's concerns and contentions. Reviewers should clearly identify which forest or forests each of their comments applies to. The submission of timely and specific comments can affect a reviewer's ability to participate in subsequent administrative or judicial review. Comments received in response to this solicitation, including names and addresses of those who comment, will become part of the public record for this proposed action. Comments submitted anonymously will be accepted and considered, however, see the section below concerning the objection process and the requirements for filing an objection.

Decision Will Be Subject to Objection

The decisions to approve the revised forest plans will be subject to the objection process identified in 36 CFR Part 219 Subpart B (219.50 to 219.62). According to 36 CFR 219.53(a), those who may file an objection are individuals and entities who have submitted substantive formal comments related to a plan revision during the opportunities provided for public comment during the planning process.

Dated: August 20, 2014.
Barnie T. Gyant,
Deputy Regional Forester, Pacific Southwest Region.

[FR Doc. 2014-20459 Filed 8-28-14; 8:45 am]

BILLING CODE 3410-11-P